DEPARTMENT OF THE INTERIOR

Bureau of Land Management

[BLM_OR_FRN_MO4500183400]

Notice of Cancellation and Rescheduling of the Public Meeting for the Southeast Oregon Resource Advisory Council

AGENCY: Bureau of Land Management, Interior.

ACTION: Meeting notice.

SUMMARY: In accordance with the Federal Land Policy and Management Act and the Federal Advisory Committee Act of 1972, the U.S. Department of the Interior, Bureau of Land Management (BLM) is giving notice that the Southeast Oregon Resource Advisory Council has rescheduled the public meeting and field tour originally scheduled for September 24-25, 2024.

DATES: The RAC will meet on November 19, 2024, from 9 a.m. to 4:30 p.m. Pacific time (PT), The RAC will participate in a field tour on November 20, 2024, from 9 a.m. to 12 p.m. PT.

ADDRESSES: The November 19, 2024, meeting will be held at the BLM Burns District Office, 28910 Highway 20 West, Hines, Oregon, 97738, and a virtual participation option will be available. The November 20, 2024, field tour will commence and conclude at the BLM's Oregon Wild Horse Corral, 26755 Highway 20 W, Hines, Oregon 97738. Instructions for participating virtually, final agendas, and additional meeting details will be posted at least 10 days in advance of the meeting on the RAC's web page: https://www.blm.gov/get-involved/resource-advisory-council/near-you/oregon-washington/southeast-oregon-rac.

FOR FURTHER INFORMATION CONTACT: Lisa McNee, Public Affairs Officer, 1301 South G Street, Lakeview, OR 97630; (541) 219-9180; lmcnee@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The 15-member RAC serves in an advisory capacity concerning issues relating to land use planning and the management of the public land resources located within the boundaries of the BLM's Vale, Burns, and Lakeview Districts and the Fremont-Winema and Malheur National Forests. Agenda items for the November 19 meeting include presentations on the Conservation and Landscape Health Rule, the Blueprint for 21st Century Outdoor Recreation, and technology and fuels monitoring. The November 20, 2024, field tour is to the BLM's Oregon Wild Horse Corral, which will provide an opportunity to view wild horses and burros gathered from Oregon, California, and Arizona that are being prepared for adoption. Members of the public who wish to participate in the field tour must provide their own transportation and meals.

Requests for Accommodations: Please make requests in advance for sign language interpreter services, assistive listening devices, language translation services, or other reasonable accommodations. We ask that you contact the individual listed in the FOR FURTHER INFORMATION CONTACT section of this notice at least 14 business days prior to the meeting to give the Department of the Interior sufficient time to process the request. All reasonable accommodation requests are managed on a case-by-case basis.

Interested persons may choose to make oral comments at the meeting during the designated time for this purpose. Depending on the number of persons wishing to speak and the time available, the amount of time for oral comments may be limited. Information to be distributed to the RAC is requested before the start of each meeting. Written comments can be mailed in advance to the individual listed in the FOR FURTHER INFORMATION CONTACT section of this notice. All comments received will be provided to the RAC. Before including your address, phone number, email address, or other personal identifying information in your comments, please be aware that your entire comment—including your personal identifying information—may be made publicly available at any time. While you can ask us in your comment to withhold your personal identifying information from public review, we cannot guarantee we will be able to do so.

(Authority: 43 CFR 1784.4-2)

James Forbes,
Lakeview District Manager.

[FR Doc. 2024-21800 Filed 9-23-24; 8:45 am]

BILLING CODE 4331-21-P